DEPARTMENT OF TRANSPORTATION

Surface Transportation Board

[STB Ex Parte No. 656 (Sub-No. 1)]

Investigation Into the Practices of the National Classification Committee

AGENCY: Surface Transportation Board.

ACTION: Request for comments from interested persons.

SUMMARY: The Board is commencing an investigation into the practices of the National Classification Committee (NCC), which administers the motor carrier classification system for its motor carrier members pursuant to an agreement approved by the Board under 49 U.S.C. 13703. The purpose of this investigation is to develop a more thorough record regarding charges of abuse of market power by NCC, in its practices generally, and particularly with its action changing the classification of lighting products and fixtures in 2004.

DATES: Opening comments may be filed by persons opposing renewal of NCC's bureau agreement by November 18, 2005. NCC may file reply comments by December 8, 2005.

ADDRESSES: Any filing submitted in this proceeding must refer to STB Ex Parte No. 656 (Sub-No. 1) and must be submitted either via the Board's e-filing format or in the traditional paper format. Any person using e-filing should comply with the instructions found on the Board's http://www.stb.dot.gov Web site, at the “E-FILING” link. Any person submitting a filing in the traditional paper format should send an original and 10 paper copies of the filing (and also an IBM-compatible floppy disk with any textual submission in any version of either Microsoft Word or WordPerfect) to: Surface Transportation Board, 1925 K Street, NW., Washington, DC 20423-0001. Because all comments will be posted to the Board's Web site, persons filing them with the Board need not serve them on other participants but must furnish a hard copy on request to any participant.

FOR FURTHER INFORMATION CONTACT: Joseph H. Dettmar (202) 565-1609. (Federal Information Relay Service for the hearing impaired: 1-800-877-8339.)

SUPPLEMENTARY INFORMATION: Additional information on this proceeding appears in the Board's decision in this proceeding. This decision will be published on the Board's Web site at http://www.stb.dot.gov, under docket number STB Ex Parte No. 656 (Sub-No. 1). Board filings, decisions, and notices are available at this site.

This action will not significantly affect either the quality of the human environment or the conservation of energy resources.

Decided: October 12, 2005.
By the Board, Chairman Nober, Vice Chairman Buttrey, and Commissioner Mulvey.
Vernon A. Williams,
Secretary.

[FR Doc. 05-20806 Filed 10-18-05; 8:45 am]

BILLING CODE 4915-01-P